DEPARTMENT OF TRANSPORTATION

Federal Aviation Administration

14 CFR Part 39

[Docket No. FAA-2008-0584; Directorate Identifier 2007-NM-315-AD; Amendment 39-15639; AD 2008-17-01]

RIN 2120-AA64

Airworthiness Directives; Dornier Model 328-100 Airplanes

AGENCY: Federal Aviation Administration (FAA), Department of Transportation (DOT).

ACTION: Final rule.

SUMMARY: The FAA is superseding an existing airworthiness directive (AD), which applies to all AvCraft Dornier Model 328-100 airplanes. That AD currently requires modifying the electrical wiring of the fuel pumps; installing insulation at the hand flow control and shut-off valves, and other components of the environmental control system; and installing markings at fuel wiring harnesses. The existing AD also requires revising the Airworthiness Limitations section of the Instructions for Continued Airworthiness to incorporate new inspections of the fuel tank system. This new AD replaces the flight-hour-based threshold for conducting certain initial inspections, with an 8-year threshold. This AD results from fuel system reviews conducted by the manufacturer. We are issuing this AD to reduce the potential of ignition sources inside fuel tanks, which, in combination with flammable fuel vapors, could result in fuel tank explosions and consequent loss of the airplane.

DATES: This AD becomes effective September 17, 2008.

The Director of the Federal Register approved the incorporation by reference of certain publications listed in the AD as of September 17, 2008.

On July 29, 2005 (70 FR 36470, June 24, 2005), the Director of the Federal Register approved the incorporation by reference of AvCraft Service Bulletin SB-328-00-445, including Price Information Sheet, dated August 23, 2004; and Dornier Temporary Revision ALD-080, dated October 15, 2003.

ADDRESSES: For service information identified in this AD, contact 328 Support Services GmbH, P.O. Box 1252, D-82231 Wessling, Federal Republic of Germany.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Groves, Aerospace Engineer, International Branch, ANM-116, Transport Airplane Directorate, FAA, 1601 Lind Avenue, SW., Renton, Washington 98057-3356; telephone (425) 227-1503; fax (425) 227-1149.

SUPPLEMENTARY INFORMATION:

Discussion

The FAA issued a notice of proposed rulemaking (NPRM) to amend 14 CFR part 39 to include an AD that supersedes AD 2005-13-24, amendment 39-14161 (70 FR 36470, June 24, 2005). The existing AD applies to all AvCraft Dornier Model 328-100 airplanes. That NPRM was published in the Federal Register on May 22, 2008 (73 FR 29720). That NPRM proposed to continue to require modifying the electrical wiring of the fuel pumps; installing insulation at the hand flow control and shut-off valves, and other components of the environmental control system; and installing markings at fuel wiring harnesses. That NPRM also proposed to continue to require revising the Airworthiness Limitations section (ALS) of the Instructions for Continued Airworthiness to incorporate new inspections of the fuel tank system. That NPRM also proposed to replace the flight-hour-based threshold for conducting certain initial inspections, with an 8-year threshold.

Comments

We provided the public the opportunity to participate in the development of this AD. No comments have been received on the NPRM or on the determination of the cost to the public.

Change to “Later Revisions of the ALD” Paragraph of the NPRM

We removed all references to the use of “later revisions” of the applicable service information from this AD to be consistent with FAA policy. This change will not increase the economic burden on any operator, nor will it increase the scope of the AD, since we may consider approving the use of later revisions of the service bulletin as an alternative method of compliance with this AD, as provided by paragraph (j) of this AD.

Conclusion

We have carefully reviewed the available data, and determined that air safety and the public interest require adopting the AD with the change described previously. We have determined that this change will neither increase the economic burden on any operator nor increase the scope of the AD.

Costs of Compliance

This AD affects about 16 airplanes of U.S. registry. The actions that are required by AD 2005-13-24 and retained in this AD take about 70 work hours per airplane, at an average labor rate of $80 per work hour. Required parts cost about $14,118 per airplane. Based on these figures, the estimated cost of the currently required actions is $315,488, or $19,718 per airplane.

The new required action to revise the ALS takes about 1 work hour per airplane. Based on these figures, the estimated cost of the new actions specified in this AD for U.S. operators is $1,280, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14161 (70 FR 36470, June 24, 2005) and by adding the following new airworthiness directive (AD):

2008-17-01 328 Support Services GmbH (Formerly Avcraft Aerospace GmbH): Amendment 39-15639. Docket No. FAA-2008-0584; Directorate Identifier 2007-NM-315-AD.

Effective Date

(a) This AD becomes effective September 17, 2008.

Affected ADs

(b) This AD supersedes AD 2005-13-24.

Applicability

(c) This AD applies to all Dornier Model 328-100 airplanes, certificated in any category.

Unsafe Condition

(d) This AD results from fuel system reviews conducted by the manufacturer. We are issuing this AD to reduce the potential of ignition sources inside fuel tanks, which, in combination with flammable fuel vapors, could result in fuel tank explosions and consequent loss of the airplane.

Compliance

(e) You are responsible for having the actions required by this AD performed within the compliance times specified, unless the actions have already been done.

Note 1: This AD requires revisions to certain operator maintenance documents to include inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued operational safety of the airplane.

Restatement of the Requirements of AD 2005-13-24

Modification and Installations

(f) Within 12 months after the July 29, 2005 (the effective date of AD 2005-13-24), do the actions in Table 1 of this AD in accordance with the Accomplishment Instructions of AvCraft Service Bulletin SB-328-00-445, dated August 23, 2004; or Revision 1, dated June 17, 2005.

Table 1—Requirements
Do the following actions— | By accomplishing all the actions specified in—
(1) Modify the electrical wiring of the left-hand and right-hand fuel pumps | Paragraph 2.B(1) of the service bulletin.
(2) Install insulation at the left-hand and right-hand flow control and shut-off valves, and other components of the environmental control system | Paragraph 2.B(2) of the service bulletin.
(3) Install markings at fuel wiring harnesses | Paragraph 2.B(3) of the service bulletin.

Revision to Airworthiness Limitations

(g) Within 12 months after July 29, 2005, revise the Airworthiness Limitations section of the Instructions for Continued Airworthiness by inserting a copy of Dornier Temporary Revision ALD-080, dated October 15, 2003, into the Dornier 328 Airworthiness Limitations Document. Thereafter, except as provided in paragraphs (i) and (j) of this AD, no alternative inspection intervals may be approved for this fuel tank system.

New Requirements of This AD

Revised Initial Compliance Time

(h) For Tasks 28-00-00-02 and 28-00-00-03 (“Detailed Inspection of Outer Fuel Tank harness internal, LH/RH,” and “Detailed Inspection of Inner Fuel Tank harness internal, LH/RH”), as identified in Dornier Temporary Revision ALD-080, dated October 15, 2003, or Section F, “Fuel Tank System Limitations,” of the Dornier 328 Airworthiness Limitations Document (ALD), Revision 15, dated January 15, 2005; the initial compliance time is within 8 years after the effective date of this AD. Thereafter, except as provided by paragraphs (i) and (j) of this AD, these tasks must be accomplished at the repetitive interval specified in Section F, “Fuel Tank System Limitations,” of the Dornier 328 ALD, Revision 15, dated January 15, 2005.

No Alternative Inspections, Inspection Intervals, or CDCCLs

(i) After accomplishing the actions specified in paragraphs (g) and (h) of this AD, no alternative inspections, inspection intervals, or CDCCLs may be used unless the inspections, intervals, or CDCCLs are approved as an alternative method of compliance (AMOC) in accordance with the procedures specified in paragraph (j) of this AD.

Alternative Methods of Compliance (AMOCs)

(j) The Manager, ANM-116, International Branch, Transport Airplane Directorate, FAA, has the authority to approve AMOCs for this AD, if requested using the procedures found in 14 CFR 39.19. Send information to ATTN: Tom Groves, Aerospace Engineer, International Branch, ANM-116, Transport Airplane Directorate, FAA, 1601 Lind Avenue, SW., Renton, Washington 98057-3356; telephone (425) 227-1503; fax (425) 425-1149. Before using any approved AMOC on any airplane to which the AMOC applies, notify your appropriate principal inspector (PI) in the FAA Flight Standards District Office (FSDO), or lacking a PI, your local FSDO.

Related Information

(k) EASA airworthiness directive 2006-0197 [Corrected], dated July 11, 2006, also addresses the subject of this AD.

Material Incorporated by Reference

(l) You must use the service information specified in Table 2 of this AD to perform the actions that are required by this AD, unless the AD specifies otherwise.

Table 2—Material Incorporated by Reference
Service information | Revision level | Date
AvCraft Service Bulletin SB-328-00-445, including Price Information Sheet | Original | August 23, 2004.
AvCraft Service Bulletin SB-328-00-445 | 1 | June 17, 2005.
Dornier Temporary Revision ALD-080 | Original | October 15, 2003.
Section F, “Fuel Tank System Limitations,” of Dornier 328 Airworthiness Limitations Document | 15 | January 15, 2005.

(1) The Director of the Federal Register approved the incorporation by reference of AvCraft Service Bulletin SB-328-00-445, Revision 1, dated June 17, 2005; and Section F, “Fuel Tank System Limitations,” of Dornier 328 Airworthiness Limitations Document, Revision 15, dated January 15, 2005; in accordance with 5 U.S.C. 552(a) and 1 CFR part 51.

(2) On July 29, 2005 (70 FR 36470, June 24, 2005), the Director of the Federal Register approved the incorporation by reference of AvCraft Service Bulletin SB-328-00-445, including Price Information Sheet, dated August 23, 2004; and Dornier Temporary Revision ALD-080, dated October 15, 2003.

(3) Contact 328 Support Services GmbH, P.O. Box 1252, D-82231 Wessling, Federal Republic of Germany, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on July 29, 2008.
Ali Bahrami,
Manager, Transport Airplane Directorate, Aircraft Certification Service.

[FR Doc. E8-18425 Filed 8-12-08; 8:45 am]

BILLING CODE 4910-13-P